OVERSEAS PRIVATE INVESTMENT CORPORATION

[OPIC Form 252]

Submission for OMB Review; Comments Request

AGENCY: Overseas Private Investment Corporation (OPIC).

ACTION: Notice and request for comments.

SUMMARY: Under the provisions of the Paperwork Reduction Act (44 U.S.C. Chapter 35), agencies are required to publish a Notice in the Federal Register notifying the public that the agency has prepared an information collection for OMB review and approval and has requested public review and comment on the submission. OPIC received no comments in response to the sixty (60) day notice published in Federal Register volume 79, number 167, page 51377 on August 28, 2014. The purpose of this notice is to allow an additional thirty (30) days for public comments to be submitted. Comments are being solicited on the need for the information; the accuracy of the Agency's burden estimate; the quality, practical utility, and clarity of the information to be collected; and ways to minimize reporting the burden, including automated collected techniques and uses of other forms of technology.

DATES: Comments must be received within thirty (30) calendar-days of publication of this Notice.

ADDRESSES: Copies of the subject form may be obtained from the Agency Submitting Officer.

FOR FURTHER INFORMATION CONTACT: OPIC Agency Submitting Officer: Essie Bryant, Record Manager, Overseas Private Investment Corporation, 1100 New York Avenue NW., Washington, DC 20527; (202) 336-8563.

Summary Form Under Review

Type of Request: New form.

Title: U.S. Effects Screening Questionnaire.

Form Number: OPIC-252.

Frequency of Use: One per investor per project (as needed) and OPIC-supported financial intermediaries (as required by finance agreement or insurance contract).

Type of Respondents: Businesses or other institutions; individuals.

Description of Affected Public: Companies investing overseas.

Reporting Hours: 37.5 hours (.5 hours per project).

Number of Responses: 75 per year.

Federal Cost: $0.

Authority for Information Collection: Sections 231 and 239(d) of the Foreign Assistance Act of 1961, as amended.

Abstract (Needs and Uses): The Aligned Capital Investee Opt-In is a document used by companies seeking investments or grant funding to place their information into OPIC's Aligned Capital Program. The Aligned Capital Program is a pilot program that OPIC has designed to align development finance with other capital, including philanthropic, socially responsible and impact investment, to enable effective deployment of that capital towards projects in the countries and sectors in which OPIC works.

Dated: November 3, 2014.
Nichole Cadiente,
Administrative Counsel, Administrative Affairs, Department of Legal Affairs.

[FR Doc. 2014-26549 Filed 11-10-14; 8:45 am]

BILLING CODE M